INTERNATIONAL TRADE COMMISSION

[Investigation No. 337-TA-1374]

Certain Smart Ceiling Fans, Components Thereof, and Associated Systems and Software Thereof; Notice of Commission Determination Not To Review an Initial Determination Terminating the Investigation Based on Withdrawal of the Complaint; Termination of the Investigation

AGENCY: International Trade Commission.

ACTION: Notice.

SUMMARY: Notice is hereby given that the U.S. International Trade Commission has determined not to review an initial determination (“ID”) (Order No. 23) of the presiding administrative law judge (“ALJ”) granting the complainant's unopposed motion to terminate the above-captioned investigation in its entirety based on withdrawal of the complaint. The investigation is terminated in its entirety.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On October 26, 2023, the Commission instituted this investigation under section 337 of the Tariff Act of 1930, as amended, 19 U.S.C. 1337 (“section 337”), based on a complaint filed by Wangs Alliance Corporation d/b/a, WAC Lighting of Port Washington, New York (“Complainant”). See 88 FR 73620-21 (Oct. 26, 2023). The complaint alleges a violation of section 337 based upon the importation into the United States, sale for importation, or sale after importation into the United States of certain smart ceiling fans, components thereof, and associated systems and software thereof, by reason of infringement of certain claims of U.S. Patent Nos. 11,028,854 (“the '854 patent”); 10,488,897 (“the '897 patent”); and 11,598,345 (“the '345 patent”). Id. The complaint further alleges that a domestic industry exists. Id. The notice of investigation names the following respondents: Minka Lighting, LLC of Newport News, Virginia and Tech Lighting LLC and VC Brands, LLC, both of Skokie, Illinois (collectively, “Respondents”). Id. The Office of Unfair Import Investigations is not participating in this investigation. Id.

The Commission previously terminated the investigation as to claims 2 and 3 of the '854 patent, claims 6, 8, 9, 10, 12, 13, and 14 of the '345 patent, and all asserted claims of the '897 patent. Order No. 16 (Apr. 23, 2024), unreviewed by Comm'n Notice (May 15, 2024).

On July 3, 2024, Complainant filed an unopposed motion to terminate the investigation in its entirety based on the parties' agreement, as detailed in footnote 1 of the motion, to withdraw the complaint. On August 5, 2024, pursuant to Order No. 22, Complainant filed a declaration confirming that the unopposed motion captures the entirety of the parties' agreements. Respondents did not file a response to the unopposed motion.

On August 14, 2024, the ALJ issued the subject ID (Order No. 23) granting Complainant's unopposed motion to terminate the investigation in its entirety. Order No. 23 (Aug. 14, 2024). The subject ID finds that Complainant meets the requirements of Commission Rule 210.21(a) (19 CFR 210.21(a)), and that there are no extraordinary circumstances that would prevent the requested partial termination of the investigation. The subject ID further finds that terminating this investigation will not be contrary to the public interest.

No party petitioned for review of the subject ID.

The Commission has determined not to review the subject ID (Order No. 23). The investigation is terminated in its entirety.

The Commission vote for this determination took place on September 9, 2024.

The authority for the Commission's determination is contained in section 337 of the Tariff Act of 1930, as amended (19 U.S.C. 1337), and in Part 210 of the Commission's Rules of Practice and Procedure (19 CFR part 210).

By order of the Commission.
Issued: September 9, 2024.
Lisa Barton,
Secretary to the Commission.

[FR Doc. 2024-20729 Filed 9-11-24; 8:45 am]

BILLING CODE 7020-02-P